DEPARTMENT OF COMMERCE

International Trade Administration

[C-570-923]

Raw Flexible Magnets From the People's Republic of China: Countervailing Duty Order

Correction

In notice document E8-21719 beginning on page 53849 in the issue of Wednesday, September 17, 2008 make the following correction:

On page 53849, in the third column, under EFFECTIVE DATE, “December 17, 2008” should read “September 17, 2008”.

[FR Doc. Z8-21719 Filed 9-23-08; 8:45 am]

BILLING CODE 1505-01-D